DEPARTMENT OF ENERGY

Federal Energy Regulatory Commission

[Docket No. RP01-50-000]

Portland Natural Gas Transmission System; Notice of Proposed Changes in FERC Gas Tariff

October 18, 2000.

Take notice that on October 13, 2000, Portland Natural Gas Transmission System (PNGTS) tendered for filing as part of its FERC Gas Tariff, First Revised Volume No. 1, the following revised tariff sheet to become effective November 1, 2000:

Original Sheet No. 337A

PNGTS states that the purpose of this filing is to comply with the requirements of Order No. 587-L regarding the implementation of netting and trading of imbalances.

PNGTS states that copies of ah defiling were mile to all affected customers and intrestedstate commissions.

Any person desiring to be heard or to protest s aid filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will reconsidered by the Commission in determining the appropriate action to be taken, but will not serve to make Protestants parties to the proceedings. Any person wishing to become party must file am lotion to intervene. Copies of this filing are on file with the Commission an dare available for public inspection in the Public Reference Room. This filing may be viewed on the web at http://www.ferc.fed.us/online/rims.htm (call 202-208-2222 forassistance.

David P. Boergers,
Secretary.

[FR Doc. 00-27271 Filed 10-23-00; 8:45 am]

BILLING CODE 6717-01-M